DEPARTMENT OF THE INTERIOR

Bureau of Land Management

[LLCOF00000-L18200000-XX0000]

Front Range Resource Advisory Council Meeting Cancellation

AGENCY: Bureau of Land Management, Interior.

ACTION: Notice of public meeting cancellation.

SUMMARY: In accordance with the Federal Land Policy and Management Act (FLPMA) and the Federal Advisory Committee Act of 1972 (FACA), notice is hereby given that the Front Range Resource Advisory Council meeting scheduled for October 19, 2011 at the BLM Royal Gorge Field Office, 3028 East Main Street, Canon City, CO has been cancelled. Notice of the meeting appeared in the Federal Register March 18, 2011.

DATES: The meeting was scheduled for October 19, 2011, 9:15 a.m. to 4:30 p.m.

FOR FURTHER INFORMATION CONTACT: Tina Brown, Front Range RAC Coordinator, BLM Colorado State Office, 2850 Youngfield St., Lakewood, CO 80215. Phone: (303) 239-3668. E-mail: tbrown@blm.gov.

SUPPLEMENTARY INFORMATION: The 15-member Council advises the Secretary of the Interior, through the BLM, on a variety of planning and management issues associated with public land management in the BLM Front Range District. Future meetings will be announced through a separate Federal Register notice.

Dated: October 5, 2011.
John Mehlhoff,
Acting State Director.

[FR Doc. 2011-26447 Filed 10-12-11; 8:45 am]

BILLING CODE 4310-JB-P